DEPARTMENT OF ENERGY

Federal Energy Regulatory Commission

Combined Notice of Filings

Take notice that the Commission has received the following Natural Gas Pipeline Rate and Refund Report filings:

Filings Instituting Proceedings

Docket Numbers: RP13-166-000.

Applicants: Centra Pipelines Minnesota Inc.

Description: Revised Index of Shippers to be effective 12/1/2012.

Filed Date: 10/18/12.

Accession Number: 20121018-5059.

Comments Due: 5 p.m. ET 10/30/12.

Docket Numbers: RP13-167-000.

Applicants: TC Offshore LLC.

Description: NAESB 2.0 to be effective 12/1/2012.

Filed Date: 10/18/12.

Accession Number: 20121018-5108.

Comments Due: 5 p.m. ET 10/30/12.

Docket Numbers: RP13-168-000.

Applicants: Central New York Oil And Gas, L.L.C.

Description: MARC I Interim FTSA Filing to be effective 12/31/9998.

Filed Date: 10/19/12.

Accession Number: 20121019-5104.

Comments Due: 5 p.m. ET 10/31/12.

Docket Numbers: RP13-169-000.

Applicants: El Paso Natural Gas Company, L.L.C.

Description: Atmos Energy Non-Conforming TSA to be effective 10/25/2012.

Filed Date: 10/19/12.

Accession Number: 20121019-5143.

Comments Due: 5 p.m. ET 10/31/12.

Docket Numbers: RP13-170-000.

Applicants: Columbia Gulf Transmission Company.

Description: Columbia Gulf Transmission Company submits tariff filing per 154.601: Negotiated Rate Svc Agreements—NJR, Vitol, Tenaska, LD to be effective 11/1/2012.

Filed Date: 10/19/12.

Accession Number: 20121019-5167.

Comments Due: 5 p.m. ET 10/31/12.

Docket Numbers: RP13-171-000.

Applicants: Texas Eastern Transmission, LP.

Description: PCB TETLP DEC 2012 FILING to be effective 12/1/2012.

Filed Date: 10/22/12.

Accession Number: 20121022-5000.

Comments Due: 5 p.m. ET 11/5/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-156-001.

Applicants: Central New York Oil And Gas, L.L.C.

Description: MARC I FTSA Compliance Filing—Correction2 to be effective 12/31/9998.

Filed Date: 10/19/12.

Accession Number: 20121019-5035.

Comments Due: 5 p.m. ET 10/31/12.

Docket Numbers: RP13-60-001.

Applicants: Tennessee Gas Pipeline Company, L.L.C.

Description: NAESB V 2.0 Minor Corrections to 10/1/12. Compliance Order No. 587-V Filing to be effective 12/1/2012.

Filed Date: 10/19/12.

Accession Number: 20121019-5043.

Comments Due: 5 p.m. ET 10/31/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated October 22, 2012.
Nathaniel J. Davis, Sr.,
Deputy Secretary.

[FR Doc. 2012-26356 Filed 10-25-12; 8:45 am]

BILLING CODE 6717-01-P